DEPARTMENT OF COMMERCE

National Oceanic and Atmospheric Administration

[RTID 0648-XE159]

New England Fishery Management Council; Public Meeting; Correction

AGENCY: National Marine Fisheries Service (NMFS), National Oceanic and Atmospheric Administration (NOAA), Commerce.

ACTION: Notice of correction of a public meeting.

SUMMARY: The New England Fishery Management Council (Council) is scheduling a public meeting of its Joint Herring Committee and Advisory Panel via webinar to consider actions affecting New England fisheries in the exclusive economic zone (EEZ). Recommendations from this group will be brought to the full Council for formal consideration and action, if appropriate.

DATES: This webinar will be held on Thursday, August 22, 2024, at 9:30 a.m.

ADDRESSES: Webinar registration URL information:

https://nefmc-org.zoom.us/meeting/register/tJUlde2hqj0rE9S93wF9at0Dq8m3tUI-2n9d.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION: The original notice published in the Federal Register on August 5, 2024 (89 FR 63414). The original notice stated that the webinar meeting would be held on Thursday, August 22, 2024, at 1 p.m. This notice corrects the time of the meeting to 9:30 a.m. All other previously-published information remains unchanged.

Authority: 16 U.S.C. 1801 et seq.

Dated: August 5, 2024.
Rey Israel Marquez,
Acting Deputy Director, Office of Sustainable Fisheries, National Marine Fisheries Service.

[FR Doc. 2024-17599 Filed 8-7-24; 8:45 am]

BILLING CODE 3510-22-P